Title 3—

The President

Proclamation 8778 of March 1, 2012

American Red Cross Month, 2012

By the President of the United States of America

A Proclamation

After more than 130 years of providing humanitarian relief at home and abroad, the American Red Cross remains a reflection of the compassion and generosity central to our national identity. At moments of profound need, the actions of men and women across our country reflect our noblest ideals of service—from search-and-rescue teams that brave disaster zones to ordinary citizens who deliver not only lifesaving care and supplies, but also hope for a brighter tomorrow. During American Red Cross Month, we pay tribute to all those whose dedication to relieving human suffering illuminates even our darkest hours.

A visionary humanitarian and unyielding advocate for those in need, Clara Barton founded the American Red Cross in 1881 after many years of tending to soldiers and families injured in war’s wake. In the generations that followed, the American Red Cross served as a force for peace and recovery during times of crisis. Presidents of the United States have called upon the American Red Cross time and again, beginning when President Woodrow Wilson proclaimed Red Cross Week during the First World War, and continuing into the 21st century.

Today, emergency response organizations like the American Red Cross continue to play a vital role in responding to disasters that cast countless lives and communities into harm’s way. When devastating storms struck cities spanning the Midwest to the Eastern Seaboard this past year, the American Red Cross and other relief organizations were instrumental partners in preparedness, response, and recovery. And when a devastating earthquake shook Japan’s Pacific coast, they answered by extending support to the people of Japan and standing with them as they rebuild.

We are reminded in times like these that the strength of our humanitarian response and the measure of our resilience are drawn not only from the committed action of relief organizations, but also from individuals who step forward, volunteer, or give what they can to help their neighbors in need. With generous spirits and can-do attitudes, Americans from every corner of our country have come together again and again to show the true character of our Nation. As we celebrate American Red Cross Month, let us resolve to preserve and renew that humanitarian impulse to save, to serve, and to build, and carry it forward in the year to come.

NOW, THEREFORE, I, BARACK OBAMA, President of the United States of America and Honorary Chairman of the American Red Cross, by virtue of the authority vested in me by the Constitution and the laws of the United States, do hereby proclaim March 2012 as American Red Cross Month. I encourage all Americans to observe this month with appropriate programs, ceremonies, and activities, and by supporting the work of service and relief organizations.

IN WITNESS WHEREOF, I have hereunto set my hand this first day of March, in the year of our Lord two thousand twelve, and of the Independence of the United States of America the two hundred and thirty-sixth.

[FR Doc. 2012-5553

Filed 3-5-12; 8:45 am]

Billing code 3295-F2-P